POSTAL SERVICE

39 CFR Part 111

Domestic Competitive Products Pricing and Mailing Standards Changes

AGENCY: Postal Service™.

ACTION: Final rule.

SUMMARY: The Postal Service is revising Mailing Standards of the United States Postal Service, Domestic Mail Manual (DMM®), to reflect changes to prices and mailing standards for the following competitive products: Express Mail®, Priority Mail®, First-Class Package Service™, Parcel Select®, Parcel Post®, Extra Services, Return Services, Mailer Services, and Recipient Services.

DATES: Effective Date: January 27, 2013.

FOR FURTHER INFORMATION CONTACT: Margaret Choiniere (202) 268-7231 or Garry Rodriguez (202) 268-7281.

SUPPLEMENTARY INFORMATION: This final rule describes new prices and product features for competitive products, by class of mail, established by the Governors of the United States Postal Service®. New prices are available under Docket Number CP2013-3 on the Postal Regulatory Commission's (PRC) Web site at http://www.prc.gov, and are also located on the Postal Explorer® Web site at http://pe.usps.com.

Competitive product prices and changes are identified by product as follows:

Express Mail

Prices

Overall, Express Mail prices will increase 5.9 percent. Express Mail will continue to offer zoned Retail, Commercial Base™ and Commercial Plus™ pricing tiers.

Retail prices will increase an average of 6.5 percent. The price for the Retail Flat Rate Envelope, Legal Flat Rate Envelope, and the recently-introduced Padded Flat Rate Envelope is increasing to $19.95. The Flat Rate Box price will remain at $39.95.

The existing Commercial Base prices offer lower prices to customers who use online and other authorized postage payment methods. Commercial Base prices will increase 2.0 percent.

The existing Commercial Plus price category offers price incentives to large volume customers. Commercial Plus prices will increase 1.0 percent.

Priority Mail

Prices

Overall, Priority Mail prices will increase 6.3 percent. The price increase varies by price cell and price tier.

Retail prices will increase an average of 9.0 percent, but Retail Priority Mail will now include USPS® tracking and confirmation of delivery at no additional charge, offsetting about 3 percent of the increase. The regular Flat Rate envelope will be priced at $5.60, with the Legal Flat Rate Envelope priced at $5.75 and Padded Flat Rate Envelope priced at $5.95. Flat Rate Box prices will be: Small, $5.80; Medium, $12.35; Large, $16.85 and Large APO/FPO, $14.85.

Commercial Base prices offer lower prices to customers who use online and other authorized postage payment methods. Commercial Base prices will increase an average of 3.7 percent. Commercial Base pricing will offer an average 11.3 percent discount off retail prices.

Commercial Plus price category offers attractive price incentives to large volume customers. Commercial Plus prices will increase an average of 3.8 percent. Commercial Plus pricing will offer an average 16.2 percent discount off retail prices.

Critical Mail

Critical Mail® letters and flats are enhanced with a new option, signature upon delivery, as part of the service offering. The Critical Mail letter with signature option is priced at $4.60; the Critical Mail flat with signature option is priced at $5.35.

Critical Mail Returns

The Postal Service is providing a new option within the suite of USPS Returns Services to include Critical Mail pieces. This new product will afford customers the ability to expedite their returns by using barcoded USPS Critical Mail (letters and flats).

First-Class Package Service

Prices

Overall, First-Class Package Service prices will increase 3.0 percent. The Intelligent Mail® package barcode (IMpb) will continue to provide free USPS tracking and confirmation of delivery with these parcels.

New Payment Method for First-Class Package Service Commercial Plus

The Postal Service is revising the DMM to add PC Postage endicia as a new payment method for First-Class Package Service Commercial Plus parcels.

Surcharges for First-Class Package Service Parcels

First-Class Package Service mailers are currently assessed a $0.05 per piece surcharge for parcels weighing less than 2 ounces, parcels that are irregularly shaped (such as rolls, tubes or triangles), or parcels that lack a unique tracking barcode (previously a Postal routing barcode). These surcharges relate to additional handling required in Postal Service processing in order to work these pieces. As a result, the surcharge was not assessed for First-Class Package Service parcels presented in 5-digit/scheme containers.

The Postal Service is eliminating the surcharge for First-Class Package Service parcels under 2 ounces since the new prices will reflect that these pieces are generally nonmachinable. The Postal Service will retain a surcharge for First-Class Package Service parcels that are irregularly shaped, but will also retain the prior exclusion for parcels that are presented in 5-digit/scheme containers.

The standards implementing Intelligent Mail package barcodes (IMpb) requires an IMpb on First-Class Package Service parcels claiming presort pricing, effective January 7, 2013 (extended to January 27, 2013). Therefore the surcharge for parcels not bearing a barcode is no longer applicable for First-Class Package Service parcels claiming 5-digit, 3-digit or area distribution center (ADC) prices. The Postal Service will retain the surcharge for First-Class Package Service parcels claiming mixed ADC/single-piece prices that do not have a barcode. This surcharge and the surcharge for irregularly shaped First-Class Package Service parcels will increase to $0.08 per piece.

Parcel Select

Prices

On average, Parcel Select prices will increase 9.0 percent.

The average price increase for Parcel Select Destination Entry destination delivery unit (DDU) is 8.0 percent, for destination sectional center facility (DSCF) 4.9 percent, and for destination network distribution center (DNDC) 4.8 percent.

The prices for Parcel Select NDC (network distribution center) and ONDC (origin network distribution center) presorted parcels are increasing 5.7 and 4.3 percent respectively. The prices for Parcel Select Nonpresort parcels are increasing 4.2 percent.

The prices for Parcel Select Lightweight™ (PSLW) will increase 9.8 percent. The IMpb will continue to provide free USPS tracking and confirmation of delivery with PSLW as well.

Parcel Select Regional Ground

The Postal Service has decided to discontinue Parcel Select Regional Ground™ service due to inadequate usage.

Parcel Post

On July 20, 2012, in Docket No. MC2012-13, the PRC gave conditional approval for Parcel Post to be transferred to the competitive product list. The three conditions outlined in the docket have been met. Parcel Post is now a competitive product and pending review by the PRC the product will be renamed “Standard Post™”. A global change will be made to the DMM for the January 27, 2013, update.

As a result of the transfer of Parcel Post to a competitive product, it will no longer be included under the list of products that comprise Package Services. Parcel Post will only be offered through retail channels, and will include USPS tracking and confirmation of delivery at no additional charge. Customers will now be able to access processing and delivery scans for their parcels online at USPS.com®.

Extra Services

Adult Signature Service

Adult Signature Service prices are increasing. The price for Adult Signature Required is $4.95 and Adult Signature Restricted Delivery is $5.15.

New Delivery Confirmation Label

In response to the structural changes being made to Delivery Confirmation extra service labels, the Postal Service will replace the current Label 314, electronic Delivery Confirmation, with a new Label 400, USPS Tracking. Label 400 will include an Intelligent Mail package barcode and will be provided for use by electronic option mailers. These labels may also be affixed to retail mailpieces by USPS retail associates when an applicable mailpiece is presented at a retail location without postage validation imprint (PVI) capability.

Return Services

Parcel Return Service

Parcel Return Service (PRS) prices will have an overall price increase of 4.8 percent. Return Network Distribution Center (RNDC) prices will have a 1.0 percent increase; Return Sectional Center Facility (RSCF) prices will increase less than 1.0 percent, and Return Delivery Unit (RDU) prices will increase 8.5 percent.

The Parcel Return Service annual permit fee and annual account maintenance fee are increasing. Information on fees can be found in the Domestic Mailing Services Federal Register Notice.

Nonstandard PRS Labels

PRS participants are required to use labels that meet the specific criteria described in the DMM. To allow for the consistent capture and staging of PRS mailpieces at their intended pick-up points, the Postal Service has constructed a rigorous precertification process to assure PRS labels meet these established criteria.

The Postal Service has recently become aware of incidents where PRS permit holders have used noncompliant labels, resulting in PRS parcels being routed to the address on mailpiece, instead of the intended pick-up point. In addition, some PRS permit holders have requested exceptions for the use of noncompliant dual-purpose labels that have also resulted in the misdirection of PRS mailpieces to the address on the label. Currently, the Postal Service does not have a pricing mechanism to account for these instances where additional handling has occurred due to a mailer's noncompliant label.

As a result, the Postal Service will now specify when noncompliant labels are affixed to PRS parcels, which travel through the postal network to the delivery address on the label, the permit holder will be charged postage at the appropriate Parcel Post price, calculated from the parcel's entry point in the USPS network to its delivery address. If the parcel's entry point can not be determined, then postage will be calculated at Zone 4.

Parcel Return Service—Full Network

The Postal Service is introducing a new option for mailers receiving large quantities of return parcels, Parcel Return Service—Full Network (PRS—Full Network). Mailers with an annual volume of 50,000 or more return parcels, and who desire a full-network option from the USPS may enroll in PRS—Full Network.

PRS—Full Network provides a new returns option for mailers to receive return parcels entered by their customers anywhere within the Postal Service's network. PRS—Full Network features full network pricing, encompassing all eight USPS zones. To expedite delivery, PRS—Full Network will generally bypass the mailer's local delivery unit and will provide delivery of return parcels directly from the processing facility/sectional center facility (SCF) servicing the location of the mailer's designated return site.

PRS—Full Network participants will be required to pay postage through the scan based payment (SBP) program as specified in the DMM, and must obtain a Centralized Account Payment System (CAPS) debit account (instructions for enrollment are provided on the RIBBS Web site at http://ribbs.usps.gov). Participants will also be required to pay an annual Parcel Return Service (PRS) fee and an annual PRS account maintenance fee.

Each PRS—Full Network mailpiece must bear an Intelligent Mail package barcode that includes the appropriate service type code (STC), and a selection of STCs have been developed for use with PRS—Full Network mailpieces. Detailed specifications are defined in Publication 91, Confirmation Services Technical Guide.

The addition of PRS—Full Network to the USPS product line provides an alternative to the current first-mile option available through its regular PRS returns network, and a full network solution for those mailers who are unable to pick-up their returns at the locations specified in conventional PRS agreements.

This revision also incorporates clarifying language in the DMM under Scan Based Payment, providing that participants must pay postage through a Centralized Account Payment System (CAPS) debit account. This requirement has been a condition for the use of Scan Based Payment since its inception.

Mailer Services

Premium Forwarding Service

The enrollment fee for Premium Forwarding Service® (PFS®) will not increase, remaining at $15.00. The price of the weekly reshipment charge will increase from $15.25 to $17.00.

USPS Package Intercept

The USPS Package Intercept™ fee will not change for January 2013.

Pickup on Demand

The Pickup on Demand® service daily fee will increase from $15.30 to $20.00.

The Postal Service is revising the DMM to include Pickup on Demand enhancements that automate the payment method for all package pickup services, and also adds an option for requesting recurring pickups through the online package pickup program at www.usps.com.

Additionally, the Postal Service is revising the DMM to rename “Carrier Pickup” (a pickup that occurs as part of a regularly scheduled delivery or collection stop) as Package Pickup.

Recipient Services

Post Office Box Service

The competitive Post Office Box™ service prices will increase an average of 2.6 percent within the existing price ranges previously set.

Other

New for January 2013, customers can order flat rate packaging supplies online in smaller quantities than currently provided and will be able to pay a fee to get supplies delivered faster than the current free service provided. The new expedited service fee is priced at $2.50.

Resources

The Postal Service provides additional resources to assist customers with this price change for Shipping Services. These tools include price lists, downloadable price files, and Federal Register Notices, which may be found on the Postal Explorer Web site at pe.usps.com.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

100 Retail Mail

* * * * *

102 Elements On the Face of a Mailpiece

* * * * *

3.0 Placement and Content of Mail Markings

* * * * *

3.3 Mail Markings

[Revise the first sentence in the introductory text of 3.3 as follows:]

Mailers must print the basic required Package Services subclass marking—“Media Mail,” or “Library Mail”—or “Parcel Post” on each piece claimed at the respective price. * * *

* * * * *

[Revise the first sentence of item 3.3a as follows:]

a. The service icon that will identify Parcel Post and all Package Services subclasses will be a 1-inch solid black square. * * *

[Revise the second sentence of item 3.3b as follows:]

b. * * * If the service banner is used, Parcel Post or the appropriate Package Services subclass marking (e.g., “MEDIA MAIL,” “LIBRARY MAIL”) must be preceded by the text “USPS” and must be printed in minimum 20-point bold sans serif typeface, uppercase letters, centered within the banner, and bordered above and below by minimum 1-point separator lines. * * *

* * * * *

[Revise the heading of Exhibit 3.3 as follows:]

Exhibit 3.3 Parcel Post and Package Services Indicator Examples

[Revise the first example to have the indicator read “USPS PARCEL POST” instead of “USPS PARCEL SELECT”.]

* * * * *

120 Priority Mail

* * * * *

126 Deposit

1.0 Deposit

* * * * *

[Delete 1.3, Returns, in its entirety.]

* * * * *

130 First-Class Mail

* * * * *

136 Deposit

1.0 Deposit for First-Class Mail

[Delete the heading 1.1, Single-Piece and Card Mailings, and move text under 1.0. Delete 1.2, Returns, in its entirety.]

* * * * *

150 Parcel Post

153 Prices and Eligibility

1.0 Parcel Post Prices and Fees

* * * * *

[Delete 1.2, Determining Single-Piece Weight, in its entirety. Renumber 1.3 through 1.7 as 1.2 through 1.6.]

* * * * *

1.2 Parcel Post Price Application

[Revise the text of renumbered 1.2 by adding a new last sentence as follows:]

* * * See Notice 123—Price List.

* * * * *

[Delete renumbered 1.3, Computing Postage—Parcel Post With Permit Imprint, in its entirety. Renumber 1.4 through 1.6 as 1.3 through 1.5.]

* * * * *

[Delete renumbered 1.5, Prices, in its entirety.]

* * * * *

2.0 Basic Eligibility Standards for Parcel Post

2.1 Definition of Parcel Post

[Revise the text of 2.1 as follows:]

Parcel Post is a separate product offered only through retail channels.

* * * * *

2.4 Delivery and Return Addresses

[Revise the text of 2.4 as follows:]

All Parcel Post mail must bear a delivery and return address.

* * * * *

154 Postage Payment Methods

1.0 Postage Payment Methods for Parcel Post

[Delete the heading 1.1, Payment Method, and move the text under 1.0. Revise the text as follows:]

The mailer is responsible for proper postage payment. Subject to the corresponding standards, postage for Parcel Post mail may be paid by postage evidencing system indicia (see 604) or by ordinary postage stamps. Pieces with postage affixed must bear the correct numerical value of postage.

[Delete 1.2, Affixing Postage—Single-Piece Mailings, and 2.0, Postage Paid With Permit Imprint, in their entirety.]

* * * * *

155 Mail Preparation

1.0 Preparation for Parcel Post

1.1 Basic Preparation

[Revise the text of 1.1 as follows:]

There are no presort, sacking, or labeling standards for Parcel Post pieces.

1.2 Delivery and Return Addresses

[Revise the text of 1.2 as follows:]

All Parcel Post pieces must bear both a delivery address and the sender's return address.

1.3 Basic Markings

[Revise the first sentence of 1.3 as follows:]

The basic required marking—“Parcel Post”—must be printed on each piece. * * *

* * * * *

[Delete 1.4, Required Use, in its entirety.]

* * * * *

156 Deposit

1.0 Deposit for Parcel Post

[Revise the heading of 1.1 as follows:]

1.1 Deposit

[Revise the text of 1.1 as follows:]

Parcel Post mail must be deposited at a time and place specified by the postmaster or designee at the office of mailing. Parcel Post is primarily intended to be presented at a USPS retail service counter where USPS tracking and confirmation of delivery service can be initiated.

[Delete 1.2, 1.3, and 1.4. Renumber 1.5 through 1.7 as new 1.2 through 1.4.]

* * * * *

[Delete renumbered 1.4, Returns, in its entirety.]

200 Commercial Letters and Cards

* * * * *

220 Priority Mail

223 Prices and Eligibility

1.0 Prices and Fees

* * * * *

1.4 Critical Mail Prices

[Renumber 1.4.1 and 1.4.2 as 1.4.2 and 1.4.3. Add new 1.4.1 as follows:]

1.4.1 Prices

Critical Mail letters has two price options, Critical Mail letters and Critical Mail letters with signature. For prices, see Notice 123—Price List.

* * * * *

300 Commercial Flats

* * * * *

320 Priority Mail

323 Prices and Eligibility

1.0 Prices and Fees

* * * * *

1.4 Critical Mail Prices

[Renumber 1.4.1 and 1.4.2 as 1.4.2 and 1.4.3. Add new 1.4.1 as follows:]

1.4.1 Prices

Critical Mail flats has two price options, Critical Mail flats and Critical Mail flats with signature. For prices, see Notice 123—Price List.

* * * * *

400 Commercial Parcels

* * * * *

401 Physical Standards

1.0 Physical Standards for Parcels

* * * * *

1.3 Maximum Weight and Size

[Revise the second sentence of 1.3 as follows:]

* * * Lower weight limits apply to parcels mailed at Priority Mail commercial plus cubic, Regional Rate Box, First-Class Package Service, Standard Mail, and Bound Printed Matter prices. ***

* * * * *

2.0 Additional Physical Standards by Class of Mail

* * * * *

2.5 Parcel Select

* * * * *

[Delete 2.5.3, Parcel Select Regional Ground, in its entirety and renumber 2.5.4 as 2.5.3.]

* * * * *

402 Elements on the Face of a Mailpiece

* * * * *

2.0 Placement and Content of Markings

* * * * *

[Revise the heading of 2.5 as follows:]

2.5 Parcel Select, Parcel Post, Bound Printed Matter, Media Mail, and Library Mail Markings

2.5.1 Basic Markings

[Revise the first sentence of the introductory text of 2.5.1 as follows:]

The basic required marking (e.g., “Parcel Select”, “Parcel Select Lightweight”, “Parcel Post”, “Bound Printed Matter”, “Media Mail”, “Library Mail”) must be printed on each piece claimed at the respective price. * *

* * * * *

[Delete item 2.5.1b and renumber 2.5.1c as 2.5.1b.]

* * * * *

2.5.2 Parcel Select Markings

* * * * *

[Delete item 2.5.2e and renumber item 2.5.2f as 2.5.2e.]

* * * * *

[Delete 2.5.3, Parcel Select Regional Ground Markings, in its entirety. Renumber 2.5.4 through 2.5.7 as 2.5.3 through 2.5.6.]

* * * * *

430 First-Class Package Service

433 Prices and Eligibility

1.0 Prices and Fees for First-Class Package Service

* * * * *

1.5 Surcharge

A surcharge applies for parcels with the following characteristics:

[Revise the text of item 1.5a as follows:]

a. Unless prepared in 5-digit/scheme containers, presorted parcels that are irregularly shaped, such as rolls, tubes, and triangles.

[Revise the text of item 1.5b by deleting the last sentence.]

* * * * *

3.0 Basic Standards for First-Class Package Service Parcels

* * * * *

3.4 IMpb Standards

[Revise the text of 3.4 as follows:]

First-Class Package Service parcels claiming presorted prices or with postage paid through a PC Postage system must bear an Intelligent Mail package barcode prepared under 708.5.0.

* * * * *

434 Postage Payment and Documentation

1.0 Basic Standards for Postage Payment

1.1 Postage Payment Options

[Revise the first sentence of 1.1 as follows:]

Postage for First-Class Package Service parcels must be paid with postage evidencing system postage or permit imprint as specified below. * * *

* * * * *

2.0 Postage Payment for Presorted First-Class Package Service Parcels

* * * * *

2.2 Affixed Postage for First-Class Package Service Parcels

[Revise the introductory text of 2.2 as follows:]

Each presorted First-Class Package Service parcel bearing postage evidencing system indicia (IBI Meter or PC Postage permitted for Commercial Base, or PC Postage permitted for Commercial Plus parcels) must bear one of the following:

* * * * *

450 Parcel Select

453 Prices and Eligibility

1.0 Prices and Fees

1.1 Price Application

[Revise the fourth sentence in the introductory text of 1.1 by deleting the parenthetical at the end of the sentence.]

* * * * *

[Delete item 1.1d and renumber item 1.1e as 1.1d.]

* * * * *

[Revise the heading of 3.0 as follows:]

3.0 Price Eligibility for Parcel Select and Parcel Select Lightweight

* * * * *

[Delete 3.4, Parcel Select Regional Ground, in its entirety. Renumber 3.5 through 3.9 as 3.4 through 3.8.]

* * * * *

3.7 Delivery and Return Address

[Revise the third sentence of renumbered 3.7 as follows:]

* * * Alternative addressing formats under 602.3.0 or detached address labels under 602.4.0 may be used. * *

* * * * *

3.8 Hold for Pickup

[Revise the text of renumbered 3.8 as follows:]

Only Parcel Select Nonpresort parcels are eligible for Hold For Pickup service and are held at a designated Post Office location for pickup by a specified addressee or designee (see 508.8.0).

* * * * *

454 Postage Payment and Documentation

1.0 Basic Standards for Postage Payment

1.1 Postage Payment Options

* * * * *

[Delete 1.1.1 in its entirety.]

* * * * *

455 Mail Preparation

1.0 General Information for Mail Preparation

* * * * *

1.8 Parcel Select Markings

* * * * *

[Delete item 1.8e and renumber item 1.8f as 1.8e.]

* * * * *

[Delete 7.0, Preparing Parcel Select Regional Ground, in its entirety and renumber 8.0 as 7.0.]

* * * * *

456 Enter and Deposit

1.0 Verification

1.1 Verification and Entry

[Delete the last sentence of 1.1.]

* * * * *

1.2 Office of Mailing

[Delete the heading 1.2.1, Parcel Select, and move the text under 1.2. Delete 1.2.2 in its entirety.]

* * * * *

1.3 Redirected Mailings

[Revise the introductory text of 1.3 as follows:]

A shipper who presents large shipments of zoned Parcel Select mail may be authorized or directed to deposit such shipments at another postal facility when processing or logistics make such an alternative desirable for the USPS, subject to these conditions:

* * * * *

1.4 NDC Acceptance

[Revise the introductory text of 1.4 as follows:]

A mailer may present Parcel Select at a NDC for acceptance if:

* * * * *

2.0 Deposit

* * * * *

[Delete 2.18 and 2.19 in their entirety.]

* * * * *

500 Additional Mailing Services

503 Extra Services

1.0 Extra Services for Express Mail

* * * * *

1.2 Express Mail Drop Shipment

For an Express Mail drop shipment, the content of each Express Mail pouch is considered one mailpiece for indemnity coverage, and the mail enclosed may receive only the following services:

* * * * *

[Revise the text of item 1.2d as follows:]

d. Parcel Post, Package Services and Parcel Select mail may be sent with special handling or, for parcels only, electronic option Delivery Confirmation service or electronic option Signature Confirmation service.

* * * * *

4.0 Insured Mail

* * * * *

4.2 Basic Information

* * * * *

4.2.2 Eligible Matter

The following types of mail may be insured:

[Revise the text of item 4.2.2a as follows:]

a. First-Class Mail, First-Class Package Service and Priority Mail (including Critical Mail), if it contains matter that is eligible to be mailed at Standard Mail, Parcel Post, or Package Services prices.

* * * * *

[Revise the text of item 4.2.2c as follows:]

c. Parcel Post, Package Services, and Parcel Select pieces.

* * * * *

4.2.4 Additional Services

* * * The following additional services may be combined with insurance if the applicable standards for the services are met and additional service fees are paid:

* * * * *

[Revise item 4.2.4f as follows:]

f. Adult Signature Required and Adult Signature Restricted Delivery are available for insured Express Mail, Priority Mail (including Critical Mail), and Parcel Select Nonpresort.

* * * * *

5.0 Certificate of Mailing

* * * * *

5.2 Basic Information

* * * * *

5.2.2 Eligible Matter—Single Piece

[Revise the text of 5.2.2 as follows:]

Form 3817, or a USPS approved facsimile, is used for a certificate of mailing for an individual First-Class Mail, Priority Mail (excluding Critical Mail), Parcel Return Service, Parcel Post, or Package Services mailpiece.

* * * * *

6.0 Return Receipt

* * * * *

6.2 Basic Information

* * * * *

6.2.2 Eligible Matter

Return receipt service is available for:

* * * * *

[Revise the text of item 6.2.2d as follows:]

d. Parcel Post or Package Services when purchased at the time of mailing with COD or insured mail (for more than $200.00).

* * * * *

6.2.4 Additional Services

If return receipt service has been purchased with one of the services listed in 6.2.2, one or more of the following extra services may be added at the time of mailing if the standards for the services are met and the additional service fees are paid:

[Revise the text of items 6.2.4a and 6.2.4b as follows:]

a. Delivery Confirmation (First-Class Mail parcels, Priority Mail, Parcel Post, Package Services, and Parcel Select parcels).

b. Parcel airlift service (PAL) (Priority Mail, Parcel Post, and Package Services).

* * * * *

[Revise the text of item 6.2.4d as follows:]

d. Signature Confirmation (Priority Mail, Parcel Post, Package Services, and Parcel Select parcels).

* * * * *

8.0 Restricted Delivery

* * * * *

8.2 Basic Information

* * * * *

8.2.2 Eligible Matter

Restricted Delivery service is available for:

* * * * *

[Revise the text of item 8.2.2c as follows:]

c. Parcel Post, Package Services, or Parcel Select pieces when purchased at the time of mailing with COD or insured mail (for more than $200.00).

* * * * *

9.0 Adult Signature

* * * * *

9.2 Basic Information

* * * * *

9.2.3 Eligible Matter

Adult Signature Required and Adult Signature Restricted Delivery are available for:

* * * * *

[Delete item 9.2.3d.]

* * * * *

9.2.4 Ineligible Matter

Adult Signature Required and Adult Signature Restricted Delivery are not available for:

[Renumber items 9.2.4c through 9.2.4h as 9.2.4d through 9.2.4i. Add new 9.2.4c as follows:]

c. Parcel Post.

* * * * *

9.2.6 Additional Services

Adult Signature may also be combined with:

* * * * *

c. Hold For Pickup

* * * * *

[Delete item 9.2.6c4.]

* * * * *

10.0 Return Receipt for Merchandise

* * * * *

10.2 Basic Information

* * * * *

10.2.2 Eligible Matter

[Revise the text of 10.2.2 as follows:]

Return receipt for merchandise is available for merchandise sent as Priority Mail (excluding Critical Mail), Standard Mail machinable and irregular parcels, Parcel Post, Package Services, and Parcel Select pieces.

* * * * *

11.0 Delivery Confirmation

11.1 Delivery Confirmation Fee

* * * * *

11.1.2 Fees and Postage

[Revise the last sentence of 11.1.2 as follows:]

* * * The electronic price is applicable when customers privately print an electronic Delivery Confirmation label or Label 400 and establish an electronic link with the USPS to exchange acceptance and delivery data.

11.2 Basic Information

* * * * *

11.2.2 Eligible Matter

[Revise the first sentence of the introductory text of 11.2.2 as follows:]

Delivery Confirmation service is available for First-Class Mail parcels and First-Class Package Service parcels (electronic option only); all Priority Mail pieces (at no additional charge); Standard Mail parcels (electronic option only); Package Services parcels, Parcel Post parcels (at no additional charge) and Parcel Select parcels. * * *

* * * * *

11.2.5 Service Options

The Delivery Confirmation service options are:

[Revise the text of items 11.2.5a and 11.2.5b as follows:]

a. Retail option: Available at the time of mailing and a mailing receipt is provided. A mailer may mail articles with retail option Delivery Confirmation (Form 152) affixed at a Post Office, branch, or station, or give articles to a rural carrier. A mailer may also present Parcel Post or Priority Mail packages to a retail employee at a Post Office, station, or branch and the retail associate will affix a Delivery Confirmation label to the package at no additional charge. Mailers can access delivery information over the Internet at www.usps.com or by calling 1-800-222-1811 toll-free and providing the article number.

b. Electronic option: Privately printed forms or labels or Label 400 options are available to mailers who establish an electronic link with the USPS to exchange acceptance and delivery data. Since no mailing receipt is provided with the electronic option, mailers wishing to obtain a mailing receipt may use Form 3877 (11.2.8).

* * * * *

[Delete 11.2.7 in its entirety and renumber 11.2.8 as 11.2.7.]

* * * * *

11.3 Labels

11.3.1 Types of Labels

[Revise the introductory text of 11.3.1 as follows:]

Mailers not printing their own labels must use one of the label options shown below (for additional information see Publication 91, Confirmation Services Technical Guide):

* * * * *

[Revise the text of item 11.3.1b as follows:]

b. Label 400 is intended for use by electronic option mailers, and may be affixed to mailpieces by an associate when an applicable mailpieces are presented at retail locations without postage validation imprint (PVI) capability.

[Revise the heading and insert new Exhibit 11.3.1b as follows:]

Exhibit 11.3.1b Label 400

[Insert “Label 400” here.]

* * * * *

[Revise the text of item 11.3.1c as follows:]

c. Privately printed barcoded labels must meet the requirements in 11.3 and 11.4 and must include an Intelligent Mail package barcode prepared under 11.4 and 708.5.0. On the Priority Mail label, mailers must use the registered trademark symbol following the Priority Mail text or add the following statement at the bottom of the label in at least 6-point Helvetica type: “Priority Mail is a registered trademark of the U.S. Postal Service.”

[Add new item 11.3.1d and Exhibit 11.3.1d as follows:]

d. Integrated Retail Systems Labels may be affixed to mailpieces, as applicable, by a retail associate when presented by a mailer at a Post Office, station, or branch.

Exhibit 11.3.1d Integrated Retail Systems PVI Label

[Insert “PVI Label” here.]

* * * * *

11.4 Barcodes

11.4.1 Barcode Use and Symbology

[Revise the introductory text of 11.4.1 as follows:]

Labels printed by mailers with Intelligent Mail package barcodes must meet the following GS1-128 barcode symbology requirements:

[Revise the first sentence of item11.4.1a as follows:]

a. Mailers printing their own barcodes and using the retail service option (11.2.5a) must use an Intelligent Mail package barcode with GS1-128 barcode symbology. * * *

[Revise the first sentence of item 11.4.1b as follows:]

b. Mailers printing their own Intelligent Mail package barcodes and using the electronic service option (11.2.5b) must use the GS1-128 barcode symbology. * * *

* * * * *

11.4.4 Integrated Barcodes

[Revise the fifth sentence of the introductory text of 11.4.4 as follows:]

* * * Minor modifications allow users to request multiple extra services on Priority Mail, Parcel Post, and Package Services parcels. * * *

* * * * *

12.0 Signature Confirmation

* * * * *

12.2 Basic Information

* * * * *

12.2.2 Eligible Matter

[Revise the introductory text of 12.2.2 as follows:]

Signature Confirmation is available for First-Class Mail parcels and First-Class Package Service parcels (electronic option only); all Priority Mail pieces; Parcel Post, Package Services, and Parcel Select parcels under 401.1.0. For the purposes of using Signature Confirmation with Parcel Post, Package Services or Parcel Select parcels, the parcel must meet these additional requirements:

* * * * *

13.0 Collect on Delivery (COD)

* * * * *

13.2 Basic Information

* * * * *

13.2.2 Eligible Matter

[Revise the introductory text of 13.2.2 as follows:]

COD service may be used for Express Mail, First-Class Mail, Priority Mail (excluding Critical Mail), Parcel Post, and any Package Services or Parcel Select (except Parcel Select Lightweight) sub-category if:

* * * * *

13.4 Mailing

* * * * *

13.4.6 Where to Mail

[Revise the text of 13.4.6 as follows:]

COD mail must be mailed at a Post Office, station, or branch or through a rural carrier. It may not be placed in a Post Office maildrop or in or on a street letterbox. It may be placed in, but not on, a rural mailbox.

* * * * *

14.0 Special Handling

* * * * *

14.2 Basic Information

* * * * *

14.2.2 Eligible Matter

[Revise the text of 14.2.2 as follows:]

Special handling service is available only for First-Class Mail, Priority Mail (excluding Critical Mail), Parcel Post, Package Services, and Parcel Select (except Parcel Select Lightweight) pieces.

14.2.3 Additional Services

The following extra services may be combined with special handling if the applicable standards for the services are met and the additional service fees are paid:

* * * * *

[Revise item 14.2.3d as follows:]

d. PAL (for Parcel Post or Package Services only).

* * * * *

505 Return Services

* * * * *

3.0 Merchandise Return Service

* * * * *

3.2 Basic Standards

3.2.1 Description

[Revise the text of 3.2.1 as follows:]

Merchandise return service allows an authorized permit holder to pay the postage and extra service fees on single-piece price First-Class Mail, First-Class Package Service, Priority Mail, Parcel Post, Parcel Select and Package Services parcels that are returned to the permit holder by the permit holder's customers via a special label produced by the permit holder.

* * * * *

3.7 Priority Mail Reshipment

3.7.1 Description

[Revise the first sentence of 3.7.1 as follows:]

An authorized permit holder may use merchandise return service to have mail (previously sent at First-Class Mail, Parcel Post, and Package Services prices) reshipped by Priority Mail to the Post Office where the permit is held. * * *

* * * * *

4.0 USPS Return Services

4.1 Description

[Revise the first sentence of 4.1 as follows:]

Priority Mail Return Service (including Critical Mail), First-Class Package Return Service and Ground Return Service provide return service options to customers who meet the applicable standards in this section. * * *

* * * * *

4.3 Extra Services

[Revise the text of 4.3 as follows:]

Only USPS insurance for items with a value of $200 or less can be purchased by the mailer at retail for Priority Mail Return Service (including Critical Mail), First-Class Package Return Service and Ground Return Service.

4.4 Pricing

* * * * *

4.4.2 Commercial Plus Prices

Permit holders may combine cumulative volumes for Priority Mail Return Service and First-Class Package Return Service. Eligibility for commercial plus prices are available to permit holders who qualify for commercial base prices, and at least one of the following:

* * * * *

[Add new item 4.4.2e as follows:]

e. Have a signed commercial plus Critical Mail commitment agreement with USPS.

4.5 Computing Postage

[Revise the first sentence of 4.5 as follows:]

Postage is calculated based on the weight of the parcel and zone, except for First-Class Package Return Service, for which postage is based on the weight of the parcel and Critical Mail returns, for which postage is based on flat rate pricing. * * *

* * * * *

4.7 Priority Mail Return Service

* * * * *

[Add new 4.7.5 as follows:]

4.7.5 Critical Mail Returns

In addition to the applicable standards in 4.0, mailers may use Critical Mail barcoded letters and flats meeting eligibility standards in 223.0 and 323.0 for returns.

* * * * *

4.9 Ground Return Service

* * * * *

4.9.3 Prices and Eligibility

[Revise the third sentence of 4.9.3 as follows:]

* * * Ground Return Service eligibility and pricing are the same as retail Parcel Post.

* * * * *

5.0 Parcel Return Service

* * * * *

5.3 Prices

* * * * *

5.3.4 Parcel Post Prices

[Revise the text of 5.3.4 as follows:]

PRS-labeled parcels shipped from origin ZIP Codes 006-009, 967-969, and 995-999 that are picked up at an RNDC are subject to retail Parcel Post prices.

[Add new 5.3.5 as follows:]

5.3.5 Noncompliant Labels

PRS permit holders must use USPS-certified labels meeting the standards in 5.4. When noncompliant labels are affixed to PRS parcels, which travel through the Postal network to the delivery address of the label, the permit holder will be assessed the appropriate Parcel Post price, calculated from the parcel's entry point in the USPS network to its delivery address. If the parcel's entry point can not be determined, then postage will be calculated at zone 4.

* * * * *

[Renumber 6.0 as 7.0. Add new 6.0 as follows:]

6.0 Parcel Return Service—Full Network

6.1 Description

Parcel Return Service—Full Network (PRS—Full Network) provides for the bulk delivery of parcels to authorized permit holders or their agents. Permit holders must guarantee payment of postage for all parcels mailed with a PRS—Full Network label. By providing an approved PRS—Full Network label to its customers, the merchant or other party designates the permit holder identified on the label as their agent for receipt of mail bearing that label, and authorizes the USPS to deliver that mail to the permit holder or its designee. Payment for parcels returned under PRS—Full Network is deducted from a separate advance deposit (postage-due) account funded through the Centralized Account Processing System (CAPS) debit account as provided in 705.25, Scan Based Payment.

6.1.2 Conditions for Mailing

Parcels may be mailed as PRS—Full Network when all of the following conditions apply:

a. Parcels contain only matter that is eligible as Parcel Post, as described in 153.3.0 and 153.4.0.

b. Parcels bear a PRS—Full Network label that meets the standards in 6.4.

c. The permit holder has paid the annual PRS permit fee and the annual PRS account maintenance fee.

d. Permit holders must participate in the scan based payment (SBP) program under 705.25.0.

e. Permit holders must demonstrate an annual volume of at least 50,000 qualifying parcels to each location.

f. Each mailpiece must bear an accurate Intelligent Mail package barcode prepared under 708.5.0.

6.1.3 Services

Pieces using PRS—Full Network may not bear an ancillary service endorsement (see 102.4.0 and 507.1.5).

6.1.4 Customer Mailing Options

Returned parcels may be deposited as follows:

a. At any Post Office, station, or branch.

b. In any collection box (except an Express Mail box).

c. With any letter carrier.

d. As part of a collection run for other mail (special arrangements may be required).

e. At any place designated by the postmaster for the receipt of mail.

6.1.5 Application

Companies who wish to participate in PRS—Full Network must send a request on company letterhead to the manager, Business Mailer Support (see 608.8.0 for address). The request must contain the following information:

a. Company name and address.

b. An individual's contact name, telephone number, fax number, and email address.

c. The proposed delivery locations requested.

6.1.6 Approval

The manager, Business Mailer Support reviews each request and proceeds as follows:

a. If the applicant meets the criteria, the manager, Business Mailer Support approves the letter of request and sends an authorization letter outlining the terms and conditions for the program.

b. If the application does not meet the criteria, the manager, Business Mailer Support denies the request and sends a written notice to the applicant with the reason for denial.

6.1.7 Cancellation

The USPS may cancel a PRS—Full Network permit for any of the following reasons:

a. The permit holder fails to provide for adequate facilities to permit the delivery of PRS—Full Network mailpieces in bulk.

b. The permit holder fails to meet the terms of their SBP authorization or CAPS account agreement.

c. The permit holder does not fulfill the terms and conditions of the PRS—Full Network permit authorization.

d. The return labels do not conform to the specifications in 6.4.

6.1.8 Reapplying After Cancellation

To receive a new PRS—Full Network permit after cancellation under 6.1.7 the mailer must:

a. Submit a letter to the manager, Business Mailer Support requesting a permit and a new agreement.

b. Pay a new permit fee.

c. Provide evidence showing that the reasons for cancellation no longer exist.

d. Maintain adequate available funds to cover the expected number of returns.

6.1.9 Delivery Schedule and Location

Permit holders or their agents will receive parcels on a regular schedule from designated Postal facilities. Permit holders must provide an adequate location, appropriate to the volume of parcels received, for which to receive delivery of their PRS—Full Network mailpieces. When volume dictates, permit holders may be required to provide a delivery location with a dock or lift, and the ability to accept pallets or other USPS mail transport equipment.

6.2 Postage and Fees

6.2.1 Postage

Postage for PRS—Full Network includes prices for any machinable and non-machinable parcels. See Notice 123—Price List.

6.2.2 Fees

The participant must pay an annual PRS permit fee and an annual PRS account maintenance fee at each location where a PRS—Full Network permit is held. See Notice 123—Price List for applicable fee.

6.3 Prices

6.3.1 PRS—Full Network Prices

PRS—Full Network prices are zone-based, beginning from where the article entered the postal network to its designated delivery location.

6.3.2 Balloon and Oversized Prices

Parcels weighing less than 20 pounds but measuring more than 84 inches in combined length and girth are charged the applicable price for a 20-pound parcel (balloon price). Regardless of weight, any parcel that measures more than 108 inches (but not more than 130 inches) in combined length and girth must pay the oversized price.

6.4 Label Formats

6.4.1 Label Preparation

PRS—Full Network labels must be certified by the USPS for use prior to distribution as defined in the service agreement. Labels must be prepared in accordance with the standards for Intelligent Mail package barcodes under 708.5.0. Any photographic, mechanical, or electronic process or any combination of these processes may be used to produce PRS—Full Network labels. The background of the label may be any light color that allows the address, barcodes, and other required information to be easily distinguished. If labels are electronically transmitted to customers for their local printing, the permit holder must advise customers of these printing requirements as part of the instructions in 6.4.3.

6.4.2 Labeling Methods

If all applicable contents and formats are approved (including instructions to the user), permit holders or their agents may distribute a PRS—Full Network label by any of the following methods:

a. As an enclosure with merchandise when initially shipped as part of the original invoice accompanying the merchandise, or as a separate label preprinted by the permit holder. If the reverse side of the label bears an adhesive, it must be strong enough to bond the label securely to the mailpiece.

b. As an electronic file created by the permit holder for local printing by the customer.

6.4.3 Instructions

Regardless of label distribution method, permit holders or their agents must always provide written instructions to the PRS—Full Network label end-user that, at a minimum, directs them as follows:

a. If your name and address are not already printed in the return address area, please print them neatly in that area or attach a return address label there.

b. Attach the label provided by the merchant squarely onto the largest side of the mailpiece, centered when possible. Place the label at least 1 inch from the edge of the parcel, so that it does not fold over to another side. If you are using tape to attach the new label, do not put tape over any barcodes on the label, even if the tape is clear.

c. If you are reusing the original container to return the merchandise, use the label to cover your original delivery address, barcodes, and any other postal information on the container. If it is not possible to cover all that information with the label, remove the old labels, mark them out completely with a permanent marker, or cover them completely with blank labels or paper that cannot be seen through. If that cannot be done, or if the original container is no longer sound, please use a new container to return the merchandise and attach the return label to the new container.

d. Once repackaged and labeled, mail the parcel at a Post Office, deposit it in a collection box, or leave it with your letter carrier.

6.4.4 Label Format Elements

PRS—Full Network standard label sizes are 3 inches by 6 inches, 4 inches by 4 inches, or 4 inches by 6 inches. All other label sizes require written approval from the National Customer Support Center (NCSC). The label must accommodate all required elements and must be prepared according to standards in this section and in 708.5.1. All PRS—Full Network label elements must be legible including the required Intelligent Mail package barcode (IMpb). Except where a specific type size is required, elements must be large enough to be legible from a normal reading distance and be separate from other elements on the label (see Exhibit 6.4.4). The following elements, in addition to the standards in 708.5.1, are required:

a. Product Marking. All PRS—Full Network mailpieces will bear “Ground Return Service” product marking as illustrated in Exhibit 6.4.4.

b. Customer's return address. The return address of the customer using the label to mail the parcel back to the permit holder must appear in the upper left corner. If it is not preprinted by the permit holder or merchant, space must be provided for the customer to enter the return address.

c. Address for PRS—Full Network labels. The address must consist of three or four lines in all capital letters, as specified below. The ZIP Code must be printed in at least 12-point type.

1. Line 1: PRS PERMIT HOLDER'S/AGENT'S OR MERCHANT'S NAME.

2. Line 2: ATTENTION: RETURNS.

3. Line 3: The complete address and ZIP Code of the PRS Permit Holder/Agent or Merchant's delivery location, or unique Postal ZIP Code if assigned by the USPS in the service agreement.

Exhibit 6.4.4 PRS—Full Network Label

[Insert “Ground Return Service Label” here.]

* * * * *

7.0 Bulk Parcel Return Service

* * * * *

7.3.2 Availability

A mailer may be authorized to use BPRS when the following conditions apply:

[Revise renumbered item 7.3.2i as follows:]

i. Standard Mail or Parcel Select Lightweight parcels that qualify for a Media Mail or Library Mail price under the applicable standards, and that contain the name of the Package Service price in the mailer's ancillary service endorsement (507.1.5.3d) are not eligible for BPRS.

* * * * *

507 Mailer Services

1.0 Treatment of Mail

* * * * *

1.4 Basic Treatment

* * * * *

1.4.5 Extra Services

Mail with extra services is treated according to the charts for each class of mail in 1.5, except that:

* * * * *

[Revise the second sentence of item 1.4.5b as follows:]

b. * * * All insured Standard Mail, Parcel Post, Package Services, and Parcel Select pieces are forwarded or returned.

* * * * *

1.5 Treatment for Ancillary Services by Class of Mail

* * * * *

[Revise the heading of 1.5.4 as follows:]

1.5.4 Parcel Post, Package Services, and Parcel Select

[Revise the introductory text of 1.5.4 as follows:]

Undeliverable-as-addressed (UAA) Parcel Post, Package Services, and Parcel Select mailpieces are treated as described in Exhibit 1.5.4, with these additional conditions:

[Revise the text of item 1.5.4a as follows:]

a. Parcel Post, Package Services, and Parcel Select mail is forwarded only to domestic addresses.

* * * * *

[Revise the text of items 1.5.4c, 1.5.4d, and 1.5.4e as follows:]

c. The endorsement “Change Service Requested” is not permitted for Parcel Post, Package Services, or Parcel Select mailpieces containing hazardous materials under 601.10.0.

d. If a Parcel Post, Package Services (except for unendorsed Bound Printed Matter), or Parcel Select mailpiece and any attachment are not opened by the addressee, the addressee may refuse delivery of the piece and have it returned to the sender without affixing postage. Pieces endorsed “Change Service Requested” are not returned to sender. If a Parcel Post, Package Services, or Parcel Select piece or any attachment to that piece is opened by the addressee, the addressee must affix the applicable postage to return the piece to the sender.

e. An undeliverable Parcel Post, Package Services (except for unendorsed Bound Printed Matter), or a Parcel Select mailpiece that bears postage with a postage evidencing imprint and that has an illegible (or no) return address is returned to the meter licensee or PC Postage customer upon payment of the return postage. The reason for nondelivery is attached, with no address correction fee. All Parcel Post, Package Services (except unendorsed Bound Printed Matter), and Parcel Select pieces must have a legible return address.

* * * * *

[Revise the heading of Exhibit 1.5.4 as follows:]

Exhibit 1.5.4 Treatment of Undeliverable Parcel Post, Package Services, and Parcel Select

* * * * *

“Address Service Requested”¹

[Revise the second bullet under “If no change-of-address order on file:” as follows:]

Parcel Post and Package Services: * * *

* * * * *

[Revise the introductory text of the first bullet under “If change-of-address order on file:” as follows:]

Months 1 through 12: Parcel Post or Package Services forwarded postage due at the single-piece price for the class of mail. Parcel Select forwarded as postage due to addressee at the Parcel Select Nonpresort price plus the additional service fee. In both cases, separate notice of new address is provided (address correction fee charged). If addressee refuses to pay postage due, piece is returned with reason for nondelivery attached and postage charged as follows:

* * * * *

[Revise item b under the first bullet of “If change-of-address order on file:” as follows:]

b. Parcel Post and Package Services: * * *

* * * * *

“Address Service Requested”

[Format the heading “If no change-of-address order on file:” in bold. Revise the text under “If no change-of-address order on file:” as follows:]

Parcel is returned with reason for nondelivery attached; return postage charged to the mailer as follows: at applicable Parcel Post or Package Services single-piece price for the specific class of mail or the Parcel Select Nonpresorted price plus the additional service fee; separate notice of new address provided (electronic ACS fee charged).

[Format the heading “If change-of-address order on file:” in bold. Revise the introductory text of the first bullet under “If change-of-address order on file:” as follows:]

Months 1 through 12: Parcel is forwarded. Postage due is charged to the mailer as follows: at the applicable Parcel Post or Package Services single-piece price for the specific class of mail or the Parcel Select Nonpresort price plus the additional service fee. Separate notice of new address provided (electronic ACS fee charged).

* * * * *

“Forwarding Service Requested”²

[Revise the second bullet under “If no change-of-address order on file:” as follows:]

Parcel Post and Package Services: * * *

* * * * *

[Revise the introductory text of the first bullet under “If change-of-address order on file:” as follows:]

Months 1 through 12: Parcel Post or Package Services forwarded postage due at the single-piece price for the class of mail. Parcel Select forwarded as postage due to addressee at the Parcel Select Nonpresort price plus the additional service fee. If addressee refuses to pay postage due, piece is returned with reason for nondelivery attached; postage charged as follows:

* * * * *

[Revise item b under the first bullet of “If change-of-address order on file:” as follows:]

b. Parcel Post and Package Services: * * *

* * * * *

“Return Service Requested”

[Revise the text of the second bullet as follows:]

Parcel Post or Package Services: * * *

* * * * *

“Change Service Requested”³

[Revise item 2 under “Restrictions” as follows:]

(2) This endorsement is not permitted for Parcel Post or Package Services containing hazardous materials.

* * * * *

“Change Service Requested”

[Format the heading “If no change-of-address order on file:” in bold.]

* * * * *

[Format the heading “If change-of-address order on file:” in bold. Revise the first bullet under “If change-of-address order on file:” as follows:]

Months 1 through 12: Parcel forwarded; postage due charged to the mailer as follows: at the Parcel Post or Package Services single-piece price for the specific class of mail or the Parcel Select Nonpresort price plus the additional service fee; separate notice of new address provided (electronic ACS fee charged).

* * * * *

[Revise item 2 under “Restrictions” as follows:]

(2) This endorsement is not permitted for Parcel Post or Package Services containing hazardous materials.

* * * * *

1.9 Dead Mail

Dead mail is matter deposited in the mail that is undeliverable and cannot be returned to the sender. A reasonable effort is made to match articles found loose in the mail with the envelope or wrapper and to return or forward the articles. The disposition of dead mail items is as follows:

* * * * *

[Revise the text of item 1.9e as follows:]

e. Except for unendorsed Standard Mail, undeliverable Standard Mail, Parcel Post, Package Services, and insured First-Class Mail or First-Class Package Service pieces containing Standard Mail, Parcel Post, or Package Services enclosures, that cannot be returned because of an incorrect, incomplete, illegible, or missing return address is opened and examined to identify the sender or addressee.

* * * * *

2.0 Forwarding

* * * * *

2.2 Forwardable Mail

* * * * *

2.2.3 Discontinued Post Office

[Revise the text of 2.2.3 as follows:]

All Express Mail, Priority Mail, First-Class Mail, First-Class Package Service, Periodicals, Parcel Post, and Package Services pieces addressed to a discontinued Post Office may be forwarded without added charge to a Post Office that the addressee designates as more convenient than the office to which the USPS ordered the mail sent.

2.2.4 Rural Delivery

[Revise the text of 2.2.4 as follows:]

When rural delivery service is established or changed, a customer of any office receiving mail from the rural carrier of another office may have all Express Mail, Priority Mail, First-Class Mail, First-Class Package Service, Periodicals, Parcel Post, and Package Services pieces forwarded to the latter office for delivery without added charge, if the customer files a written request with the postmaster at the former office.

* * * * *

2.2.6 Mail for Military Personnel

[Revise the first sentence of 2.2.6 as follows:]

All Express Mail, First-Class Mail, First-Class Package Service, Periodicals, Parcel Post, and Package Services mailpieces addressed to persons in the U.S. Armed Forces (including civilian employees) serving where U.S. mail service operates is forwarded at no added charge when the change of address is caused by official orders. ***

* * * * *

2.3 Postage for Forwarding

* * * * *

[Revise the heading and text of 2.3.6 as follows:]

2.3.6 Parcel Post, Package Services, and Parcel Select

Parcel Post, Package Services, and Parcel Select pieces are subject to the collection of additional postage at the applicable price for forwarding; Parcel Select at the Parcel Select Nonpresort price plus the additional service fee and Parcel Post or Package Services at the single-piece price for the specific class of mail. See 2.3.5 for forwarding instructions for Parcel Select Lightweight. The addressee may refuse any piece of Parcel Post, Package Services or Parcel Select that has been forwarded. Shipper Paid Forwarding, under provisions in 4.2.9, provides mailers of Package Services and Parcel Select parcels an option of paying forwarding postage on those parcels, or return postage if undeliverable, instead of the addressee paying postage due charges.

* * * * *

3.0 Premium Forwarding Service

* * * * *

3.3 Preparation

* * * * *

3.3.3 Mailpieces Requiring a Scan or Signature at Delivery

Mailpieces requiring a scan or signature at delivery, such as Express Mail or numbered insured mail, are scanned, and then rerouted immediately and separately to the temporary address, subject to the following:

* * * * *

[Revise the text of items 3.3.3b and 3.3.3c as follows:]

b. Standard Mail parcels and Parcel Select Lightweight are separately rerouted postage due at the appropriate 1-pound Parcel Post price.

c. Parcel Post, Package Services (Bound Printed Matter, Media Mail, and Library Mail), and Parcel Select mailpieces are separately rerouted postage due at the appropriate single-piece price in the class or subclass in which the mailpiece was originally shipped.

* * * * *

[Revise the heading of 3.3.7 as follows:]

3.3.7 Parcel Post, Package Services and Parcel Select Mailpieces Not Requiring a Scan or Signature at Delivery

[Revise the text of 3.3.7 as follows:]

Parcel Post, Package Services, and Parcel Select mailpieces not requiring a scan or signature at delivery are separately rerouted postage due at the appropriate single-piece price in the class or subclass in which the mailpiece was originally shipped.

[Delete the heading 3.4, Enter and Deposit. Renumber 3.4.1 as new 3.3.8 as follows:]

3.3.8 Mailpieces Arriving Postage Due at the Primary Address

Any mailpiece arriving postage due at the Post Office serving a customer's primary address is not reshipped in the weekly Priority Mail shipment and will be rerouted individually. Mailpieces arriving postage due are rerouted as follows:

* * * * *

[Revise the text of renumbered item 3.3.8c as follows:]

c. Postage due Parcel Post, Package Services, and Parcel Select mailpieces are rerouted postage due at the appropriate single-piece price in the class or subclass in which the mailpiece was originally shipped. The total postage due for Parcel Post, Package Services, and Parcel Select mailpieces is the sum of the postage due at the time of receipt at the primary address plus the postage due for rerouting the mailpiece from the primary Post Office to the temporary address at the appropriate single-piece price.

4.0 Address Correction Services

4.1 Address Correction Service

* * * * *

4.1.5 Other Classes

[Revise the first sentence of 4.1.5 as follows:]

When possible, “on-piece” address correction is provided for Express Mail, Priority Mail, First-Class Mail, First-Class Package Service, Standard Mail, Parcel Post, Package Services, and Parcel Select pieces. ***

* * * * *

5.0 Package Intercept

5.1 Description of Service

* * * * *

5.1.1 Eligibility

[Revise the text of 5.1.1 as follows:]

Package Intercept service is available for any Express Mail, Priority Mail (including Critical Mail), First-Class Mail, First-Class Package Service, Parcel Select, Parcel Post, and Package Services mailpieces with a tracking barcode, addressed to, from or between domestic destinations (608.2.0) that do not bear a customs declarations label, and measuring not more than 108 inches in length and girth combined except as noted in 5.1.2.

* * * * *

7.0 Pickup on Demand

* * * * *

7.2 Basic Standards

7.2.1 Availability

Pickup on Demand service is available from designated Post Offices for:

* * * * *

[Revise item 7.2.1c as follows:]

c. Parcel Post.

* * * * *

[Delete 7.2.6 and renumber 7.2.7 through 7.2.9 as 7.2.6 through 7.2.8.]

* * * * *

7.2.8 International Mail

[Revise the introductory text of renumbered 7.2.8 as follows:]

The following types of international mail are available for Pickup on Demand, including a package pickup (under 7.3.3c), when all eligibility and preparation standards in the International Mail Manual are met:

* * * * *

7.3 Postage and Fees

* * * * *

7.3.3 Fee Not Charged

The customer is not charged for:

* * * * *

[Revise the text of item 7.3.3c as follows:]

c. A package pickup that occurs as part of a regularly scheduled delivery or collection stop.

* * * * *

7.3.4 Fee Payment Method

[Revise the introductory text of 7.3.4 as follows:]

The Pickup on Demand fee must be paid online at www.usps.com.

[Delete items 7.3.4a through 7.3.4e.]

* * * * *

7.4 On-Call Service

7.4.2 Requesting Pickup on Demand Service

[Revise the text of 7.4.2 as follows:]

A customer may request Pickup on Demand service and schedule a pickup at www.usps.com. Pickups may be requested within 2 hours of the required pickup time unless the customer and the serving Post Office agree, and service is not adversely affected. Depending on the time of the request and the delivery schedule of the serving Post Office, the pickup may be deferred to the next business day. When scheduling a Pickup on Demand, the customer must indicate the quantity and the class of mail to be picked up.

* * * * *

7.5 Scheduled Service

7.5.1 Availability

[Revise the text of 7.5.1 as follows:]

Pickup on Demand service is available from Post Offices with city delivery and from other Post Offices where the customer's address is within the servicing area of that post office.

* * * * *

7.5.4 Customer Changes

[Revise the text of 7.5.4 by adding a new last sentence as follows:]

* * * Customer should make notifications of change to their requests through the www.usps.com Pickup on Demand application.

7.5.5 USPS Changes

[Revise the first sentence of 7.5.5 as follows:]

The USPS may terminate Pickup on Demand service, effective 24 hours after the customer receives written notice of termination from the serving Post Office. * * *

* * * * *

508 Recipient Services

* * * * *

7.0 Hold for Pickup

* * * * *

7.2 Basic Information

* * * * *

7.2.2 Basic Eligibility

[Revise the second sentence of the introductory text of 7.2.2 as follows:]

* * * Hold For Pickup service is also available with online and commercial mailings of Priority Mail (except Critical Mail), First-Class Package Service parcels, and Parcel Select Nonpresort parcels when:

* * * * *

7.2.3 Additional Eligibility Standards

Parcels must meet these additional physical requirements:

* * * * *

[Revise the text of item 7.2.3b as follows:]

b. Except as provided in 7.2.3c, Parcel Select Nonpresort parcels must be greater than ¾ inch thick at the thickest point.

[Revise the first sentence of item 7.2.3c as follows:]

c. If the mailpiece is a Parcel Select Nonpresort parcel under 401.1.0 and is no greater than ¾ inch thick, the contents must be prepared in a container that is constructed of strong, rigid fiberboard or similar material or in a container that becomes rigid after the contents are enclosed and the container is secured. * * *

* * * * *

7.2.4 Service Options

The Hold For Pickup service options are:

* * * * *

[Revise the second sentence of item 7.2.4b as follows:]

b. Electronic Option: * * * The electronic option is available for Priority Mail (excluding Critical Mail), First-Class Mail parcels, and Parcel Select barcoded, nonpresorted parcels. * * *

* * * * *

7.2.5 Ineligible Matter

Hold For Pickup service is not available for the following:

[Renumber items 7.2.5e through 7.2.5h as 7.2.5f through 7.2.5i. Add new 7.2.5e as follows:]

e. Parcel Post.

* * * * *

7.3 Preparation Definitions and Instructions

Except for Express Mail Hold For Pickup presented at retail Post Office locations, mailers or their agents must prepare mailpieces bearing the “Hold For Pickup” label as follows:

[Revise the text of item 7.3a as follows:]

a. Enter mailpieces at the Priority Mail, First-Class Mail parcel, or Parcel Select Nonpresort price.

* * * * *

600 Basic Standards for All Mailing Services

* * * * *

602 Addressing

1.0 Elements of Addressing

* * * * *

1.5 Return Address

* * * * *

1.5.3 Required Use of Returned Addresses

The sender's domestic return address must appear legibly on:

* * * * *

[Renumber items 1.5.3g through 1.5.3n as 1.5.3h through 1.5.3o. Add new 1.5.3g as follows:]

g. Parcel Post.

* * * * *

[Revise the text of renumbered item 1.5.3i as follows:]

i. Parcel Select.

* * * * *

3.0 Use of Alternative Addressing

3.1 General Information

* * * * *

3.1.2 Prohibited Use

Alternative addressing formats may not be used on:

* * * * *

[Delete item 3.1.2d and renumber items 3.1.2e and 3.1.2f as 3.1.2d and 3.1.2e.]

* * * * *

604 Postage Payment Methods

* * * * *

5.0 Permit Imprint (Indicia)

* * * * *

5.3 Indicia Design, Placement, and Content

* * * * *

5.3.7 Standard Mail, Parcel Select and Package Services Format

[Revise the first sentence of 5.3.7 as follows:]

A Standard Mail, Parcel Select or Package Services permit imprint indicia must contain the same information required in 5.3.6, except that the Standard Mail, the applicable Parcel Select (Parcel Select or Parcel Select Lightweight), or the applicable Package Services (Bound Printed Matter, Media Mail or Library Mail) marking must be used instead of “First-Class Mail.” ***

* * * * *

5.3.11 Indicia Formats

* * * * *

Exhibit 5.3.11 Indicia Formats for Official Mail and Other Classes

* * * * *

Parcel Select

[Delete the middle indicia example (Parcel Select Regional Ground).]

* * * * *

Package Services

[Delete the heading “Parcel Post:” and the Parcel Post indicia example.]

* * * * *

7.0 Computing Postage

7.1 General Standards

7.1.1 Determining Single-Piece Weight for Retail and Commercial Mail

[Revise the text of 7.1.1 as follows:]

To determine single-piece weight in any mailing at single-piece prices, in a bulk mailing at Media Mail, or Library Mail prices, or in any bulk price mailing of nonidentical-weight pieces, weigh each piece individually. To determine single-piece weight in any other bulk or presort price mailing, weigh a sample group of at least 10 randomly selected pieces and divide the total sample weight by the number of pieces in the sample. Express all single-piece weights in decimal pounds rounded off to two decimal places for the following mailpieces: Express Mail, Priority Mail (except Critical Mail), Parcel Select, Bound Printed Matter, Media Mail, and Library Mail prices. Mailers using eVS may round off to two or four decimals, because eVS automatically rounds to the appropriate decimal place. For all other mailpieces, express all single-piece weights in decimal pounds rounded off to four decimal places.

* * * * *

8.0 Insufficient or Omitted Postage

* * * * *

8.3 Mailable Matter Without Postage in or on Mail Receptacles

* * * * *

8.3.4 Partial Distribution

[Revise the third and fourth sentences of 8.3.4 as follows:]

* * * For other matter, if the piece weighs less than 16 ounces, the applicable single-piece First-Class Mail or Priority Mail price based on the weight of the piece is applied, or Parcel Post or an applicable Package Services price is applied, whichever is lower. If the piece weighs 16 ounces or more, the Parcel Post or applicable Package Services price is applied.

* * * * *

9.0 Refunds and Exchanges

* * * * *

9.2 Postage and Fee Refunds

* * * * *

9.2.3 Torn or Defaced Mail

[Revise the first sentence of 9.2.3 as follows:]

If a First-Class Mail, First-Class Package Service, Parcel Post, or Package Services mailpiece is torn or defaced during USPS handling so that the addressee or intended delivery point cannot be identified, the sender may receive a postage refund. * * *

* * * * *

700 Special Standards

703 Nonprofit Standard Mail and Other Unique Eligibility

* * * * *

2.0 Overseas Military Mail

* * * * *

2.4 Military Ordinary Mail (MOM)

[Revise the first sentence of 2.4 as follows:]

Military ordinary mail (MOM) is DOD official mail sent at Periodicals, Standard Mail, Parcel Select, Parcel Post, or Package Services prices that requires faster service than sealift transportation to, from, and between military Post Offices. * * *

* * * * *

2.5 Parcel Airlift (PAL)

* * * * *

2.5.2 Availability

[Revise the text of 2.5.2 as follows:]

PAL is available for Parcel Post, Package Services, or Parcel Select pieces that do not exceed 30 pounds in weight or 60 inches in length and girth combined, when mailed at or addressed to any overseas military Post Office outside the 48 contiguous states.

* * * * *

7.0 Official Mail (Penalty)

* * * * *

7.12 Penalty Merchandise Return Service

7.12.1 Description

[Revise the text of 7.12.1 as follows:]

Merchandise return service allows an authorized permit holder to pay the postage and extra service fees on single-piece price First-Class Mail, Priority Mail, Parcel Post, Package Services (Bound Printed Matter, and Media Mail only) and Parcel Select Nonpresort, that is returned by the permit holder's customers via a special label produced by the permit holder as specified by 505.3.0.

* * * * *

7.12.8 Insurance Indicated by Permit Holder

[Revise the fourth sentence of 7.12.8 as follows:]

* * * Only Parcel Post, Parcel Select Nonpresort, and Package Services matter (matter not required to be mailed at First-Class Mail prices under 133.3.0) may be insured. * * *

* * * * *

7.12.11 Special Handling

[Revise the last sentence of 7.12.11 as follows:]

* * * Package Services items requiring special handling must have the following endorsement preprinted or rubber-stamped to the left of and above the “Merchandise Return Label” legend and below the “Total Postage and Fees Due” statement: “Special Handling Desired by Permit Holder.”

* * * * *

9.0 Mixed Classes

* * * * *

9.12 Postage Payment for Combined Mailings of Media Mail and Bound Printed Matter

* * * * *

9.12.4 Rating of Unmarked Parcel

[Revise the introductory text of 9.12.4 as follows:]

A parcel containing Media Mail and Bound Printed Matter is charged postage at Parcel Select Nonpresort prices if it:

* * * * *

705 Advanced Preparation and Special Postage Payment Systems

* * * * *

2.0 Manifest Mailing System

2.1 Description

2.1.1 Using an MMS

[Revise the second sentence of 2.1.1 as follows:]

* * * The MMS is an automated system that allows a mailer to document postage and fees for all pieces in Express Mail (Electronic Verification System “eVS” only under 2.9), First-Class Mail, Standard Mail, Parcel Select, Package Services, and international permit imprint mailings. * * *

* * * * *

2.1.2 Electronic Verification System

[Revise the text of 2.1.2 as follows:]

Mailers using a MMS when presenting Parcel Select destination entry mailings under 456.2.0 or commingled parcel mailings under 6.0 or 7.0, may document and pay postage using the Electronic Verification System (eVS) (see 2.9). Business Mailer Support (BMS), USPS Headquarters, must approve these systems. Unless authorized by Business Mailer Support, mailers may not commingle eVS mail with non-eVS mail within the same mailing or place eVS mail and non-eVS mail in or on the same mailing container.

* * * * *

2.9 Electronic Verification System

* * * * *

2.9.2 Availability

eVS may be used only for mail paid with a permit imprint and the following classes and subclasses of mail:

* * * * *

[Delete item 2.9.2f and renumber items 2.9.2g through 2.9.2j as 2.9.2f through 2.9.2i.]

* * * * *

6.0 Combining Mailings of Standard Mail, Package Services, and Parcel Select Parcels

6.1 Basic Standards for Combining Parcels

6.1.1 Basic Standards

[Revise the introductory text of 6.1.1 as follows:]

Standard Mail parcels, Parcel Select Lightweight parcels, Package Services parcels, and Parcel Select parcels in combined mailings must meet the following standards:

* * * * *

7.0 Combining Package Services and Parcel Select Parcels for Destination Entry

* * * * *

7.2 Combining Parcel Select and Package Services Machinable Parcels for DNDC Entry

7.2.1 Qualification

[Revise the second sentence of 7.2.1 as follows:]

*** These parcels may be eligible for Parcel Select DNDC/ASF, single-piece and Presorted Media Mail, single-piece and Presorted Library Mail, Bound Printed Matter DNDC, and single-piece and Presorted Bound Printed Matter prices. ***

* * * * *

17.0 Plant-Verified Drop Shipment

17.1 Description

* * * * *

17.1.2 Function

Under PVDS:

* * * * *

[Revise the text of item 17.1.2c as follows:]

c. For Standard Mail, Parcel Select, and Package Services, postage and fees are paid under a valid permit at the Post Office serving the mailer's plant, or as designated by the district manager.

* * * * *

22.0 Optional Combined Parcel Mailings

22.1 Basic Standards for Combining Parcel Select, Package Services, and Standard Mail Parcels

22.1.1 Basic Standards

[Revise the introductory text of 22.1.1 as follows:]

Package Services parcels, Parcel Select (including Parcel Select Lightweight) parcels, and Standard Mail parcels in a combined parcel mailing must meet the following standards:

* * * * *

22.2 Price Eligibility

22.2.1 Eligible Prices

[Revise the text of 22.2.1 as follows:]

Combined parcels may be eligible for Standard Mail, Parcel Select, single-piece and Presorted Media Mail, single-piece and Presorted Library Mail, single-piece and Presorted Bound Printed Matter, and destination entry prices and discounts as applicable.

22.2.2 Price Application

Apply prices based on the criteria in 400 and the following standards:

* * * * *

[Delete item 22.2.2f.]

* * * * *

25.0 Scan Based Payment

25.1 Basic Information

* * * * *

25.1.2 Eligibility

[Revise the text of 25.1.2 as follows:]

SBP participation may be authorized for applicants who receive a minimum of 10,000 combined qualifying returns per year to one or more locations, when approved by the manager, New Business Opportunities. Returns include Ground Return Service, First-Class Package Return Service, Priority Mail Return Service (including Critical Mail), and Parcel Return Service shipments. Only parcels and flat rate parcels and flats may be processed through the SBP program. Participants must pay for postage through a Centralized Account Payment System (CAPS) debit account.

* * * * *

707 Periodicals

* * * * *

3.0 Physical Characteristics and Content Eligibility

* * * * *

3.4 Impermissible Mailpiece Components

* * * * *

3.4.3 Products

[Revise the text of 3.4.3 as follows:]

Except as provided for in 3.3.9, products may not be mailed at Periodicals prices. Examples include stationery (such as pads of paper or blank printed forms); cassettes; floppy disks; CDs; DVDs; merchandise, including travel-size merchandise in commercially available form or packaging; and wall, desk, and blank calendars. Printed pages, including oversized pages and calendars, are not considered products if they are not offered for sale. Parcel Post, Package Services, or Parcel Select mail pieces may not be combined with a Periodicals publication.

* * * * *

4.0 Basic Eligibility Standards

* * * * *

4.8 Eligible Formats

4.8.1 Complete Copies

[Revise the last sentence of 4.8.1 as follows:]

*** Incomplete copies (for example, those lacking pages or parts of pages) are subject to the applicable First-Class Mail, Standard Mail, Parcel Post, or Package Services prices.

* * * * *

4.11 Back Issues and Reprints

[Revise the last sentence of 4.11 as follows:]

*** Other mailings of back issues or reprint copies, including permanently bound back issues or reprint copies, are subject to the applicable First-Class Mail, Standard Mail, Parcel Post, or Package Services prices.

* * * * *

6.0 Qualification Categories

* * * * *

6.6 News Agent Registry

* * * * *

6.6.5 Parts Returned

[Revise the text of 6.6.5 as follows:]

Parts of publications returned to publishers to show that copies have not been sold are subject to the applicable Standard Mail, Parcel Post, or Package Services prices.

* * * * *

7.0 Mailing to Nonsubscribers or Nonrequesters

* * * * *

7.9 Nonrequester and Nonsubscriber Copies

* * * * *

7.9.7 Excess Noncommingled Mailing

[Revise the last sentence of 7.9.7 as follows:]

*** These copies are subject to the appropriate Express Mail, First-Class Mail, Standard Mail, Parcel Post, or Package Services price.

7.9.8 Mixed Mailing

[Revise the last sentence of 7.9.8 as follows:]

*** That portion is subject to the appropriate Express Mail, First-Class Mail, Standard Mail, Parcel Post, or Package Services price.

* * * * *

11.0 Basic Eligibility

* * * * *

11.5 Copies Mailed by Public

[Revise the text of 11.5 as follows:]

The applicable single-piece First-Class Mail, Priority Mail, Parcel Post, or Package Services price is charged on copies of publications mailed by the general public (i.e., other than publishers or registered news agents) and on copies returned to publishers or news agents.

* * * * *

28.0 Enter and Deposit

* * * * *

28.2 Basic Standards

[Revise the second sentence of the introductory text as follows:]

*** The First-Class Mail, Standard Mail, Parcel Select, Parcel Post, or Package Services price must be paid on all copies mailed by the public or by a printer to a publisher. ***

* * * * *

708 Technical Specifications

* * * * *

6.0 Standards for Barcoded Tray Labels, Sack Labels, and Container Placards

* * * * *

6.2 Specifications for Barcoded Tray and Sack Labels

* * * * *

6.2.4 3-Digit Content Identifier Numbers

* * * * *

Exhibit 6.2.4 3-Digit Content Identifier Numbers

* * * * *

Parcel Select

* * * * *

[Delete the Parcel Select Regional Ground section (heading and three line items, ONDC Sacks, MXD ONDC Sacks, and OSCF Sacks).]

* * * * *

We will publish an appropriate amendment to 39 CFR part 111 to reflect these changes.

Stanley F. Mires,
Attorney, Legal Policy & Legislative Advice.

[FR Doc. 2012-26243 Filed 10-25-12; 8:45 am]

BILLING CODE 7710-12-P